DEPARTMENT OF COMMERCE

International Trade Administration

Export Trade Certificate of Review

ACTION: Notice of application to amend an Export Trade Certificate of Review.

SUMMARY: The Office of Export Trading Company Affairs (“OETCA”), International Trade Administration, U.S. Department of Commerce, has received an application to amend an Export Trade Certificate of Review (“Certificate”). This notice summarizes the proposed amendment and requests comments relevant to whether the Certificate should be issued.

FOR FURTHER INFORMATION CONTACT: Jeffrey C. Anspacher, Director, Office of Export Trading Company Affairs, International Trade Administration, (202) 482-5131 (this is not a toll-free number) or by e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a non-confidential version of the comments (identified as such) should be included. Any comments not marked privileged or confidential business information will be deemed to be non-confidential. An original and five (5) copies, plus two (2) copies of the non-confidential version, should be submitted no later than 20 days after the date of this notice to: Office of Export Trading Company Affairs, International Trade Administration, U.S. Department of Commerce, Room 1104H, Washington, DC 20230, or transmit by e-mail at oetca@ita.doc.gov. Information submitted by any person is exempt from disclosure under the Freedom of Information Act (5 U.S.C. 552). However, non-confidential versions of the comments will be made available to the applicant, if necessary, for determining whether or not to issue the Certificate. Comments should refer to this application as “Export Trade Certificate of Review, application number 85-11A18.”

A summary of the application for an amendment follows.

Summary of the Application

Applicant: U.S. Shippers Association (“USSA”), P.O. Box 67, East Texas, Pennsylvania 18046-0067.

Contact: Ronald Baumgarten, Jr., Counsel to Applicant, telephone: (202) 662-5265.

Application No.: 85-11A18.

Date Deemed Submitted: June 30, 2004.

The USSA original Certificate was issued on June 3, 1986 (51 FR 20873, June 9, 1986), and last amended on April 3, 2001 (66 FR 35773, July 9, 2001). In addition to the application for amendment described below, there is also a previously noticed application for amendment currently pending to add other additional members. See 69 FR 28880, May 19, 2004.

Proposed Amendment: USSA seeks to amend its Certificate to: Add AMCOL International Corporation as a new “Member” of the Certificate within the meaning of section 325.2(l) of the Regulations (15 CFR 325.2(l) (2004)).

Dated: July 7, 2004.
Jeffrey C. Anspacher,
Director, Office of Export Trading Company Affairs.

[FR Doc. 04-15776 Filed 7-9-04; 8:45 am]

BILLING CODE 3510-DR-P